DEPARTMENT OF LABOR

Employment and Training Administration

[TA-W-65,579]

Multi-Plastics, Inc., Saegertown, PA; Notice of Termination of Investigation

Pursuant to Section 221 of the Trade Act of 1974, as amended, an investigation was initiated on March 12, 2009, in response to a worker petition filed by a company official on behalf of workers at Multi-Plastics, Inc., Saegertown, Pennsylvania.

The petitioner has requested that the petition be withdrawn. Consequently, the investigation has been terminated.

Signed at Washington, DC this 13th day of March 2009.
Elliott S. Kushner,
Certifying Officer, Division of Trade Adjustment Assistance.

[FR Doc. E9-6515 Filed 3-24-09; 8:45 am]

BILLING CODE 4510-FN-P